COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add to the Procurement List a product and services to be furnished by nonprofit agencies employing persons who are blind or have other severe disabilities, and to delete a product and a service previously furnished by such agencies.

Comments Must Be Received On or Before: May 4, 2008.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Spices, UGR-A

NSN: 8950-01-E10-1788—Spice Blend, Barbecue Style

NSN: 8950-01-E10-1789—Spice Blend, Cinnamon Maple Sprinkles

NSN: 8950-01-E10-1790—Spice Blend, Italian Style

NSN: 8950-01-E10-1791—Spice, Onion, Minced, Dehydrated

NSN: 8950-01-E10-1792—Spice, Paprika, Ground

NSN: 8950-01-E10-1793—Spice Blend, Poultry Seasoning

NSN: 8950-01-E10-1794—Spice Blend, Steak Seasoning

NSN: 8950-01-E10-1795—Spice Blend, Vegetable Seasoning, w/o Salt

NSN: 8950-01-E10-1796—Spice, Pepper, Black, Ground

NSN: 8950-01-E10-1797—Salt, Table, Iodized

NPA: Continuing Developmental Services, Inc., Fairport, NY

Coverage: C-List for the requirements of the Defense Supply Center Philadelphia, Philadelphia, PA

Contracting Activity: Defense Supply Center Philadelphia, Philadelphia, PA

Services

Service Type/Location: TSCA Assistance Information Service, 422 South Clinton Avenue, Rochester, NY

NPA: Association for the Blind and Visually Impaired—Goodwill Industries of Greater Rochester, Rochester, NY

Contracting Activity: Environmental Protection Agency, Washington, DC

Service Type/Location: Custodial Services, General Services Administration, Public Buildings Service, 1500 East Bannister Road, Buildings 2306 and 2312, Kansas City, MO

NPA: Independence and Blue Springs Industries, Inc., Independence, MO

Contracting Activity: General Services Administration, Public Buildings Services, Region 6, Kansas City, MO

Deletions

Regulatory Flexibility Act Certification

I certify that the following action will not have a significant impact on a substantial number of small entities. The major factors considered for this certification were:

1. If approved, the action should not result in additional reporting, recordkeeping or other compliance requirements for small entities.

2. If approved, the action may result in authorizing small entities to furnish the product and service to the Government.

3. There are no known regulatory alternatives which would accomplish the objectives of the Javits-Wagner-O'Day Act (41 U.S.C. 46-48c) in connection with the product and service proposed for deletion from the Procurement List.

Comments on this certification are invited. Commenters should identify the statement(s) underlying the certification on which they are providing additional information.

End of Certification

The following product and service are proposed for deletion from the Procurement List:

Product

Pad, Fax Transmittal (OF 99)

NSN: 7540-01-317-7368

NPA: Association for the Blind and Visually Impaired—Goodwill Industries of Greater Rochester, Rochester, NY

Contracting Activity: Government Printing Office, Washington, DC

Service

Service Type/Location: Food Service, 105th Airlift Wing, Newburgh, NY

NPA: New Dynamics Corporation, Middletown, NY

Contracting Activity: 105th Airlift Wing/LGC, Newburgh, NY

Kimberly M. Zeich,
Director, Program Operations.

[FR Doc. E8-7064 Filed 4-3-08; 8:45 am]

BILLING CODE 6353-01-P